DEPARTMENT OF DEFENSE

Office of the Secretary

Reserve Forces Policy Board; Notice of Federal Advisory Committee Meeting

AGENCY: Under Secretary of Defense for Personnel and Readiness (USD (P&R)), Department of Defense (DoD).

ACTION: Notice of Federal advisory committee meeting.

SUMMARY: The DoD is publishing this notice to announce the following Federal Advisory Committee meeting of the Reserve Forces Policy Board (RFPB) will occur.

DATES: The RFPB will hold an open meeting to the public on Wednesday, September 11, 2024, from 12:30 p.m. to 4:45 p.m.

ADDRESSES: The in-person meeting will be held at the RFPB office located at 5109 Leesburg Pike, Suite 501, Falls Church, Virginia 22041. The meeting will also be held via videoconference. Participant access information will be provided after registering. Pre-meeting registration is required. See guidance in SUPPLEMENTARY INFORMATION, “Meeting Accessibility.”

FOR FURTHER INFORMATION CONTACT: Eric Flowers, Designated Federal Officer (DFO) at eric.p.flowers2.civ@mail.mil or 703-697-1795. The mailing address is Reserve Forces Policy Board, 5109 Leesburg Pike, Suite 501, Falls Church, Virginia 22041. The most up-to-date changes to the meeting agenda can be found on the website: https://rfpb.defense.gov/.

SUPPLEMENTARY INFORMATION: This meeting is being held under the provisions of chapter 10 of title 5, United States Code (U.S.C.) (commonly known as the “Federal Advisory Committee Act” or “FACA”), title 5, U.S.C., section 552b (commonly known as the ”Government in the Sunshine Act”), and title 41, Code of Federal Regulations, section 102-3.140 and section 102-3.155.

Purpose of the Meeting: The purpose of the meeting is to obtain, review, and evaluate relevant information related to strategies, policies, and practices designed to improve and enhance the capabilities, efficiency, effectiveness, and accessibility of the Reserve Component (RC).

Agenda: The RFPB will hold an open meeting to the public from 12:30 p.m. to 4:45 p.m. on Wednesday, September 11, 2024. The RFPB will begin the meeting at 12:30 p.m. with opening and introductory remarks by Mr. Eric Flowers, the DFO, Major General Vanessa Dornhoefer, United States Air Force Reserve, the RFPB's Military Executive and the RFPB Chairperson, the Honorable Lisa Disbrow. After the introductory remarks, the RFPB will receive updates from its three subcommittees. Starting at 12:40 p.m. the Integration of Total Force Personnel Policy subcommittee will provide an update on its significant events since the last board meeting. Subcommittee member Sergeant Major (SGM) Stuart Coupe will provide the update. SGM Coupe's presentation will focus on the subcommittee's progress on assessing the viability of various workforce permeability options and an overview of the subcommittee's initial research findings concerning relevant implications of future strategic depth matters associated with the RC. At approximately 12:50 p.m., the RCs' Role in Homeland Defense and Support to Civil Authorities subcommittee will provide a ten-minute update on its recently submitted Reserve Component Support for Homeland Defense Report. The Honorable Paul Stockton, subcommittee chair, will provide the update. He will highlight subcommittee recommendations on specific Homeland Defense (HD) policy initiatives, ways to supplement mobilization authorities and other measures to strengthen the DoD's ability to use the RC in achieving HD priorities in the 2022 National Defense Strategy (NDS). At approximately, 1:00 p.m., the Total Force Integration subcommittee will then provide an update on its research and analysis efforts on the Reserve Force of 2040 concept. Dr. Stacie Pettyjohn, the subcommittee chair, will provide the update. Dr. Pettyjohn will provide a status of the subcommittee's work on developing recommendations on operational and structural considerations for the RC in a future strategic environment. The recommendations will be based on NDS projections of RC mission sets and organizational structures between the present day and 2040. The update will be inclusive of the subcommittee's progress in seeking resources to fund a study that will shape those recommendations. After the subcommittees' updates, at approximately 1:10 p.m., the RFPB will receive a sixty-minute, RC-oriented brief on the future of Army RC preparation and utilization opportunities in consideration of the Reserve Force of 2040 concept. Dr. Jacob Barton, Deputy Director of Intelligence for US Army Futures Command, will make a presentation on US Army Futures Command priorities in relation to the projected operating environment of 2040. This projection is based on current trend analyses and open-source intelligence data used to inform Army-related aspects of the Reserve Force of 2040 concept. After the Army Futures Command presentation, participants will conduct a 15-minute break from 2:10 p.m. to 2:25 p.m. At approximately 2:25 p.m., the RFPB will receive a sixty-minute, RC-oriented brief on the future of Navy RC preparation and utilization opportunities in consideration of the Reserve Force of 2040 concept. Mr. Alex Trempe, Deputy Director, from the Strategy and Concepts Division on the Chief of Naval Operations' staff will make a presentation on the US Navy's holistic outlook on the future status of US naval forces, inclusive of Naval Reserve Component assets and capabilities. After Mr. Trempe's presentation, participants will conduct a 15-minute break from 3:25 p.m. to 3:40 p.m. At approximately 3:40 p.m., the RFPB will receive a sixty-minute, RC-oriented brief on the future of US Air Force RC preparation and utilization opportunities in consideration of the Reserve Force of 2040 concept. Mr. Brian Coppersmith, a Futures Officer from the Air Force Chief of Staff's Concepts and Futures Division will make a presentation on the US Air Force's holistic outlook on the future status of US air capabilities, inclusive of Air Force Reserve Component assets and force structure. At the conclusion of Mr. Coppersmith's presentation, at approximately 4:40 p.m. the Honorable Disbrow will offer closing remarks and adjourn the meeting at approximately 4:45 p.m.

Meeting Accessibility: Pursuant to 5 U.S.C. 552b and 1 and 41 CFR. 102-3.140 through 102-3.150, and subject to the availability of space, this meeting is open to the public from 12:30 p.m. to 4:45 p.m. on September 11, 2024. The meeting will be held in-person and via videoconference. The number of participants for the in-person session and videoconference is limited and is on a first-come basis. All members of the public who wish to attend the in-person session or participate in the videoconference must register by contacting the RFPB DFO, Eric Flowers, at eric.p.flowers2.civ@mail.mil or, osd.pentagon.ousd-p-r.mbx.rfpb@mail.mil or, (703) 697-1795 no later than Monday, September 9, 2024 (by 5:00 p.m. Eastern Standard Time).

Individuals that may require physical meeting or electronic meeting accommodations should submit their request to the RFPB DFO, Eric Flowers, at eric.p.flowers2.civ@mail.mil or, osd.pentagon.ousd-p-r.mbx.rfpb@mail.mil or, (703) 697-1795. Once registered, the web address and audio number will be provided to those members of the public planning to participate in the videoconference. For those members of the public who successfully register for in-person attendance, the meeting will be held in the RFPB large conference room at the RFPB office. The RFPB office is located on the 5th floor, in suite 501 in the Skyline 6 office building located at 5109 Leesburg Pike, Falls Church, Virginia. Instructions for on-site parking will be provided after a member of the public successfully registers with the DFO to attend the in-person session.

Written Statements: Pursuant to 41 CFR 102-3.105(j) and section 10(a)(3) of the FACA, the public and interested parties may submit written statements to the RFPB at any time about its approved agenda or at any time on the RFPB's mission. Written statements should be submitted to the RFPB's DFO at the address or email listed in the FOR FURTHER INFORMATION section. If statements pertain to a specific topic being discussed at the planned meeting, then these statements must be submitted no later than one (1) business day prior to the scheduled meeting date. Written statements received after this date may not be provided to or considered by the RFPB until its next scheduled meeting. The DFO will review all timely submitted written statements and provide copies to all the committee members before the meeting that is the subject of this notice. Please note that all submitted comments and public presentations will be treated as public documents and will be made available for public inspection, in accordance with the provisions outlined in the Freedom of Information Act, including, but not limited to, being posted on the RFPB's website.

Dated: August 16, 2024.
Patricia L. Toppings,
OSD Federal Register Liaison Officer, Department of Defense.

[FR Doc. 2024-18757 Filed 8-20-24; 8:45 am]

BILLING CODE 6001-FR-P